FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Survey of Household Economics and Decisionmaking (SHED) (FR 3077; OMB No. 7100-0374).

DATES: Comments must be submitted on or before October 17, 2023.

ADDRESSES: You may submit comments, identified by FR 3077, by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays, except for Federal holidays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/home/review or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Survey of Household Economics and Decisionmaking.

Collection identifier: FR 3077.

OMB control number: 7100-0374.

General description of collection: The SHED is an ad hoc voluntary survey covering topics such as individuals' overall financial well-being, employment experiences, income and ability to pay bills, economic preparedness, banking and access to credit, housing and living arrangement decisions, education and human capital, student loans, and retirement planning. The overall content of the SHED depends on changing economic, regulatory, or legislative developments as well as changes in the financial services industry. The Board uses the SHED to monitor usage of emerging financial products and understand how macroeconomic conditions are affecting households.

Proposed revisions: The Board proposes to revise the FR 3077 by removing the qualitative ad-hoc surveys, effective November 30, 2023 (however, the annual SHED may still include qualitative components). This revision is to reduce duplication across information collections.

The Board also proposes adding two minutes to the quantitative survey time per response and slightly reducing the potential number of respondents, also effective November 30, 2023. The increase in survey length reflects two adjustments. First, it is intended to provide additional flexibility for new topics related to financial well-being that are covered in the survey. For example, in recent years the survey has included questions on inflation, cryptocurrency, and buy now pay later products which are valuable for understanding financial well-being, and this additional minute will allow the Board to cover these and other emerging issues more thoroughly. Second, because the burden is calculated for all contacted respondents, and response rates have increased in recent years, the computed time per respondent has increased. The slight reduction in potential respondents similarly reflects that the final stage response rate for the survey has exceeded expectations in recent years, thereby requiring fewer contacted respondents.

Frequency: Annually.

Respondents: Non-institutionalized individuals who are 18 years of age and older.

Total estimated number of respondents: 20,500.

Total estimated change in burden: 495.

Total estimated annual burden hours: 8,200.¹

¹ More detailed information regarding this collection, including more detailed burden estimates, can be found in the OMB Supporting Statement posted at https://www.federalreserve.gov/apps/reportingforms/home/review. On the page displayed at the link, you can find the OMB Supporting Statement by referencing the collection identifier, FR 3077.

Board of Governors of the Federal Reserve System, August 15, 2023.
Michele Taylor Fennell,
Deputy Associate Secretary of the Board.

[FR Doc. 2023-17831 Filed 8-17-23; 8:45 am]

BILLING CODE 6210-01-P